U.S. INTERNATIONAL DEVELOPMENT FINANCE CORPORATION

Notice of Public Hearing

AGENCY: U.S. International Development Finance Corporation.

ACTION: Announcement of public hearing.

SUMMARY: The Board of Directors of the U.S. International Development Finance Corporation (“DFC”) will hold a public hearing on December 7, 2022. This hearing will afford an opportunity for any person to present views in accordance the BUILD Act of 2018. Those wishing to present at the hearing must provide advance notice to the agency as detailed below.

DATES: Public hearing: 2 p.m., Wednesday, December 7, 2022.

Deadline for notifying agency of an intent to attend or present at the public hearing: 5 p.m., Tuesday, November 29, 2022.

Deadline for submitting a written statement: 5 p.m., Tuesday, November 29, 2022.

ADDRESSES: Public hearing: Virtual; access information provided at the time of attendance registration.

You may send notices of intent to attend, present, or submit a written statement to Catherine F. I. Andrade, DFC Corporate Secretary, via email at candrade@dfc.gov.

Instructions: A notice of intent to attend the public hearing or to present at the public hearing must include the individual's name, title, organization, address, email, telephone number, and a concise summary of the subject matter to be presented. Oral presentations may not exceed five (5) minutes. The time for individual presentations may be reduced proportionately, if necessary, to afford all participants who have submitted a timely request an opportunity to be heard. Submission of written statements must include the individual's name, title, organization, address, email, and telephone number. The statement must be typewritten, double-spaced, and may not exceed ten (10) pages.

FOR FURTHER INFORMATION CONTACT: Catherine F. I. Andrade, DFC Corporate Secretary, (202) 336-8768, or candrade@dfc.gov.

SUPPLEMENTARY INFORMATION: The public hearing will take place via video- and teleconference. Upon registering, participants and observers will be provided instructions on accessing the hearing. DFC will prepare an agenda for the hearing identifying speakers, setting forth the subject on which each participant will speak, and the time allotted for each presentation. The agenda will be available at the time of the hearing.

Authority: 22 U.S.C. 9613(c).

Catherine F. I. Andrade,
DFC Corporate Secretary.

[FR Doc. 2022-24173 Filed 11-4-22; 8:45 am]

BILLING CODE 3210-02-P